DEPARTMENT OF THE INTERIOR

Fish and Wildlife Service

[FWS-R8-ES-2018-N022; FXES11130800000-189-FF08EVEN00]

Endangered and Threatened Wildlife and Plants; Availability of Habitat Conservation Plan and Categorical Exclusion for the Mount Hermon June Beetle, Santa Cruz County, California

AGENCY: Fish and Wildlife Service, Interior.

ACTION: Notice of availability; request for comment.

SUMMARY: We, the U.S. Fish and Wildlife Service, have received an application from Lantana, LLC for a 5-year incidental take permit under the Endangered Species Act of 1973, as amended (Act). The permit would authorize “take” of the federally endangered Mount Hermon June beetle, incidental to the otherwise lawful activities associated with the demolition of a single-family home and construction of two duet homes at 22 Blake Lane, Scotts Valley, Santa Cruz County, California. We invite comments from the public on the application package, which includes a low-effect habitat conservation plan.

DATES: To ensure consideration, please send your written comments by November 19, 2018.

ADDRESSES: You may download a copy of the draft habitat conservation plan, draft environmental action statement, and draft low-effect screening form at http://www.fws.gov/ventura/, or you may request copies of the documents by U.S. mail to our Ventura office or by phone (see FOR FURTHER INFORMATION CONTACT). Please address written comments to Stephen P. Henry, Field Supervisor, Ventura Fish and Wildlife Office, U.S. Fish and Wildlife Service, 2493 Portola Road, Suite B, Ventura, CA 93003. You may alternatively send comments by facsimile to (805) 644-3958.

FOR FURTHER INFORMATION CONTACT: Karen Sinclair, Fish and Wildlife Biologist, by U.S. mail to the Ventura address in ADDRESSES, or by telephone at (805) 677-3315.

SUPPLEMENTARY INFORMATION: We have received an application from Lantana, LLC for a 5-year incidental take permit under the Act. The application addresses the potential for take of the federally endangered Mount Hermon June beetle (Polyphylla barbata) likely to occur incidental to the demolition of a single-family home and construction of two duet homes at 22 Blake Lane, Scotts Valley, Santa Cruz County, California. We invite comments from the public on the application package, which includes the Low-Effect Habitat Conservation Plan (HCP) for the Mount Hermon June Beetle.

Background

The U.S. Fish and Wildlife Service (Service) listed the Mount Hermon June beetle as endangered on January 24, 1997 (62 FR 3616). Section 9 of the Act (16 U.S.C. 1531 et seq.) and its implementing regulations prohibit the take of fish or wildlife species listed as endangered or threatened. “Take” is defined under the Act to include the following activities: “to harass, harm, pursue, hunt, shoot, wound, kill, trap, capture, or collect, or to attempt to engage in any such conduct” (16 U.S.C. 1532); however, under section 10(a)(1)(B) of the Act, we may issue permits to authorize incidental take of listed species. The Act defines “Incidental Take” as take that is incidental to, and not the purpose of carrying out an otherwise lawful activity. Regulations governing incidental take permits for threatened and endangered species are in the Code of Federal Regulations (CFR) at 50 CFR 17.32 and 17.22, respectively. Issuance of an incidental take permit must not jeopardize the existence of federally listed fish, wildlife, or plant species. All species covered by the incidental take permit associated with this low-effect HCP receive assurances under our “No Surprises” regulations (50 CFR 17.22(b)(5) and 17.32(b)(5)).

Applicant's Proposal

Lantana, LLC (hereafter, the applicant) has submitted a low-effect HCP in support of their application for an incidental take permit (ITP) to address take of the Mount Hermon June beetle that is likely to occur as the result of direct impacts on up to 0.32 acre (ac) (14,031 square feet (sf)) of degraded sandhills habitat occupied by the species. Take would be associated with the demolition of a single-family home and construction of two duet homes on a parcel legally described as Assessor Parcel Number: 022-172-47. The current site address is 22 Blake Lane in Scotts Valley, Santa Cruz County, California. The applicant is requesting a permit for take of Mount Hermon June beetle that would result from “covered activities” that are related to the demolition of a single-family home and construction of two duet homes at 22 Blake Lane.

The applicant proposes to avoid, minimize, and mitigate take of Mount Hermon June beetle associated with the covered activities by fully implementing the HCP. The following measures will be implemented: (1) Locating the project on a developed parcel where habitat is more degraded relative to intact habitat; (2) Avoiding the flight season, if possible, and using plastic sheeting or other soil-covering material to prevent Mount Hermon June beetles from burrowing into exposed soil in the construction site when/if soil disturbing activities must occur between May and August; (3) Having a qualified biologist translocate any larval beetles unearthed during construction activities to a portion of the project site outside of the impact area that supports intact vegetation; (4) Minimizing hardscaping associated with the project, and using native Sandhills plants and non-invasive ornamental plants in landscape areas; (5) Minimizing removal of native trees on the site, including the ponderosa pines and coast live oaks; (6) Revegetating areas of temporary habitat disturbance with native and non-invasive ornamental plants that do not degrade Mount Hermon June beetle habitat; and (7) Securing off-site mitigation at a ratio of 1:1 to mitigate for habitat impacts through the acquisition of 0.32 ac (14,031 sf) of conservation credits at the Zayante Sandhills Conservation Bank. The applicant will fund all elements of the proposed conservation strategy to ensure implementation of all minimization measures, monitoring, and reporting requirements identified in the HCP.

Our Preliminary Determination

The Service has made a preliminary determination that issuance of the incidental take permit is neither a major Federal action that will significantly affect the quality of the human environment within the meaning of section 102(2)(C) of NEPA (42 U.S.C. 4321 et seq.) nor that it will, individually or cumulatively, have more than a negligible effect on the Mount Hermon June beetle, the only species covered in the HCP. Therefore, the permit qualifies for a categorical exclusion under NEPA.

Public Review

We request comments on our determination that the applicant's proposal will have a minor or negligible effect on the Mount Hermon June beetle and that the plan qualifies as a low-effect HCP. We will evaluate the permit application, including the plan and comments we receive, to determine whether the application meets the requirements of section 10(a)(1)(B) of the Act. We will use the results of our internal Service consultation, in combination with the above findings, in our final analysis to determine whether to issue the ITP. If the requirements are met, we will issue the ITP to the applicant. We will make the final permit decision no sooner than 30 days after the publication date of this notice.

Public Comments

If you wish to comment on the permit application, HCP, and associated documents, you may submit comments by any one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10 of the Act (16 U.S.C. 1531 et seq.) and NEPA regulations (40 CFR 1506.6).

Dated: October 11, 2018.
Stephen P. Henry,
Field Supervisor, Ventura Fish and Wildlife Office.

[FR Doc. 2018-22748 Filed 10-18-18; 8:45 am]

BILLING CODE 4333-15-P